DEPARTMENT OF ENERGY

Federal Energy Regulatory Commission

[Project No. 13248-000]

Los Angeles Department of Water and Power; Notice of Preliminary Permit Application Accepted for Filing and Soliciting Comment, Motions To Intervene, and Competing Applications

July 21, 2008.

On June 27, 2008, the Los Angeles Department of Water and Power (LADWP) filed an application, pursuant to section 4(f) of the Federal Power Act, proposing to study the feasibility of the Tinemaha Hydroelectric Project, which would be located near the town of Big Pine on the Owens River at the existing Tinemaha Reservoir in Inyo County, California.

The proposed Tinemaha Hydroelectric Project would include an existing dam owned by the LADWP, and its existing impoundment, Tinemaha Reservoir, which has a surface area of 2,098 acres at an elevation of 3,873.5 feet above mean sea level. The proposed project would also consist of the following new facilities: (1) A 215-foot-long, 8-foot-wide steel penstock, (2) a powerhouse containing one generating unit with a total installed capacity of 1.2 MW, (3) a 1-mile-long, 34.5 kV transmission line, connecting to an existing power line, and (4) appurtenant facilities. The project would have an annual generation of 5 GWh, which would be sold to a local utility.

Applicant Contact: Mr. Randy S. Howard, Director of Resource Planning, Procurement, and Development, Los Angeles Department of Water and Power, Suite 921, 111 North Hope St., Los Angeles, CA 90012; phone: (213) 367-0381. FERC Contact: Tom Papsidero, 202-502-6002.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13248) in the docket number field to access the document. For assistance, call toll-free 1-866-208-3372.

Kimberly D. Bose,
Secretary.

[FR Doc. E8-17143 Filed 7-25-08; 8:45 am]

BILLING CODE 6717-01-P